DEPARTMENT OF THE INTERIOR

Bureau of Land Management

[LLIDT01000.L16100000.DP0000.LXSS081D0000]

Notice of Extension of Public Comment Period to Notice of Availability of the Draft Jarbidge Field Office Resource Management Plan and Environmental Impact Statement, Idaho

AGENCY: Bureau of Land Management, Interior.

ACTION: Notice of extension.

SUMMARY: The Bureau of Land Management (BLM) published a Notice of Availability of the Draft Jarbidge Field Office Resource Management Plan (RMP) and Environmental Impact Statement (EIS) in the Federal Register on September 3, 2010 [75 FR 54177] and announced the availability of these documents. In response to multiple requests, the BLM is extending the public comment period for the Draft RMP and Draft EIS until January 31, 2010.

DATES: The comment period is extended to January 31, 2010.

ADDRESSES: Copies of the Jarbidge Field Office Draft RMP/Draft EIS have been sent to tribal governments, Federal, state, and local government agencies and other stakeholders. Copies of the Draft RMP/Draft EIS are available for public inspection at the Jarbidge Field Office, Bureau of Land Management, 2536 Kimberly Road, Twin Falls, Idaho 83301. Interested persons may also review the Draft RMP/Draft EIS at the following Web site: http://www.blm.gov/id/st/en/prog/planning/jarbidge_resource.html. You may submit comments by any of the following methods:

• E-mail: ID_Jarbidge_RMP@blm.gov.

• Fax: (208) 736-2375, Attention: Jarbidge Planning Team.

• Mail: Jarbidge Planning Team, BLM Jarbidge Field Office, 2536 Kimberly Road, Twin Falls, Idaho 83301.

FOR FURTHER INFORMATION CONTACT: Richard Vander Voet, Jarbidge Field Office Manager, or Aimee Betts, Jarbidge RMP Project Manager, telephone (208) 736-2350; address Jarbidge Field Office, 2536 Kimberly Road, Twin Falls, Idaho 83301. Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: The Draft RMP/Draft EIS addresses public land and resources managed by the Jarbidge Field Office in parts of Elmore, Owyhee, and Twin Falls Counties in south-central Idaho and Elko County in northern Nevada. These lands and resources are currently managed under the 1987 Jarbidge RMP, as amended. The planning area extends from the Bruneau River on the west to Salmon Falls Creek on the east, and from the Snake River on the north to the northern boundaries of the BLM Elko Field Office and the Humboldt-Toiyabe National Forest on the south.

The Jarbidge RMP addresses management on approximately 1.4 million acres of public land and 1.6 million acres of Federal mineral estate in the Jarbidge Field Office. Planning decisions in the RMP will only apply to the BLM-administered public lands and mineral estate in the planning area.

The Draft RMP/Draft EIS includes a series of management actions, within six management alternatives, designed to achieve or maintain desired future conditions that have been defined through the planning process for various concerns including, but not limited to: vegetation, livestock grazing, recreation, energy development, and Areas of Critical Environmental Concern (ACEC).

Authority: 40 CFR 1506.6, 1506.10 and 43 CFR 1610.2, 1610.5.

Steven A. Ellis,
Bureau of Land Management, Idaho State Director.

[FR Doc. 2010-30190 Filed 11-30-10; 8:45 am]

BILLING CODE 4310-GG-P